DEPARTMENT OF TRANSPORTATION

Federal Highway Administration

[Docket No. FHWA-2006-23638]

Highway Performance Monitoring System—Reassessment

AGENCY: Federal Highway Administration (FHWA), DOT.

ACTION: Notice; request for comments.

SUMMARY: The FHWA is initiating a reassessment of the Highway Performance Monitoring System (HPMS), which is a national highway transportation system database maintained and used by the FHWA. This notice requests public comment on issues to be reviewed as part of the reassessment. The FHWA working papers developed during the conduct of this reassessment will be placed in the docket for review and comment.

DATES: This docket will remain open until the reassessment is complete. The anticipated completion date is September 30, 2007. However, in order for comments to be considered in the early stages of the reassessment, comments should be submitted on or before June 9, 2006.

ADDRESSES: Mail or hand deliver comments to the U.S. Department of Transportation, Dockets Management Facility, Room PL-401, 400 Seventh Street, SW., Washington, DC 20590-0001, or submit electronically at http://dms.dot.gov/submit, or fax comments to (202) 493-2251. All comments should include the docket number that appears in the heading of this document. All comments received will be available for examination and copying at the above address from 9 a.m. to 5 p.m., e.t., Monday through Friday, except Federal holidays. Those desiring notification of receipt of comments must include a self-addressed, stamped postcard or you may print the acknowledgement page that appears after submitting comments electronically. Anyone is able to search the electronic form of all comments received into any of our dockets by the name of the individual submitting the comments (or signing the comment, if submitted on behalf of an association, business, labor union, etc.). You may review DOT's complete privacy Act Statement in the Federal Register published on April 11, 2000 (Volume 65, Number 70, Pages 19477-78) or you may visit http://dms.dot.gov.

FOR FURTHER INFORMATION CONTACT: Mr. David Winter, Highway System Performance Division, Office of Highway Information, (202) 366-0175, David.Winter@fhwa.dot.gov; or Janet Myers, Office of the Chief Counsel, (202) 366-2019, Janet.Myers@fhwa.dot.gov; Federal Highway Administration, Department of Transportation, 400 Seventh Street, SW., Washington, DC 20590. Office hours are from 7:45 a.m. to 4:15 p.m., e.t., Monday through Friday, except Federal holidays.

SUPPLEMENTARY INFORMATION:

Electronic Access

You may submit or retrieve comments online through the Document Management System (DMS) at: http://dms.dot.gov/submit. The DMS is available 24 hours each day, 365 days each year. Electronic submission and retrieval help and guidelines are available under the help section of the Web site.

An electronic copy of this notice may be downloaded from the Office of the Federal Register's home page at http://www.archives.gov and the Government Printing Office's Web site at http://www.access.gpo.gov.

Anyone is able to search the electronic form of all comments received into any of our dockets by the name of the individual submitting the comment (or signing the comment, if submitted on behalf of an association, business, labor union, etc.). You may review DOT's complete Privacy Act Statement in a Federal Register published on April 11, 2000 (70 FR 19477), or you may visit http://dms.dot.gov.

Background

The HPMS was developed in 1978 as a national highway transportation system database. The HPMS replaced numerous annual State data reports and biennial special studies conducted by each State for the FHWA. The FHWA used data from those reports and biennial special studies, and subsequently from HPMS, in reports to Congress pursuant to title 23, U.S.C., section 307 (current statutory provisions relating to the FHWA's biennial Conditions and Performance Reports are contained in 23, U.S.C., section 502(h)). The data gathered in HPMS also are used for a variety of FHWA functions, including apportionment of Federal-aid Highway Funds to individual States and assessment of changes in highway system performance.

A major purpose of the HPMS always has been to provide data that reflect the extent, condition, performance, use, and operating characteristics of the Nation's highways. In order to meet this primary objective, the HPMS has gone through an evolutionary process that has recognized the changing needs for accurate and timely data. For the most part, changes to the HPMS over its nearly 30-year life reflect adjustments that respond to legislative and other changes in the the Federal-aid highway program.

The HPMS was originally implemented as a national sample-based monitoring system. The sample data was supplemented with area-wide mileage, travel, and other data as a means to provide control total information and for other analytical purposes. In 1980, the HPMS was merged with the Mileage Facilities Reporting System (MFRS), which was a basic inventory system that included facility mileage, travel, and accident statistics. After the HPMS and MFRS systems were merged, a single system evolved to include the universe data attributes of the MFRS and the sample and area-wide data attributes of the original HPMS.

In 1988, the HPMS was enhanced with the addition of detailed pavement data, including International Roughness Index (IRI) measurements of pavement roughness. The HPMS was revised again in 1993 to address changes in the FHWA analysis and simulation models, including the shift to a geographic information system (GIS) environment; the effects of the 1990 Census; the Intermodal Surface Transportation Efficiency Act of 1991 (ISTEA) (Pub. L. 102-240, 105 Stat. 1914); the Clean Air Act Amendments of 1990 (Pub. L. 101-549, 104 Stat. 2399); and the Environmental Protection Agency (EPA) requirements concerning vehicle miles of travel (VMT) tracking data in air quality non-attainment areas (See Section 187, VMT Forecasting and Tracking Guidance, 57 FR 9549 (March 19, 1992)). The 1993 revision of the HPMS added nearly a dozen universal data items to be collected for the National Highway System (NHS) and other principal arterial highways. The amount of sample traffic data for urbanized air quality non-attainment areas was increased, as were the percent truck data requirements. Several pavement data items were deleted in their entirety, as were sample data items for rural minor collectors.

In 1999, the FHWA reassessed the HPMS. The final report from that reassessment is available online at http://www.fhwa.dot.gov/policy/ohpi/hpms/hpmspubs.htm. As a result of the 1999 reassessment, the FHWA made substantial changes to the number and detail of the data items in HPMS. The FHWA eliminated 15 data items and changed 21 others, thereby eliminating 90 reported detail lines and adding one new item. Most notably, to eliminate duplication with the National Highway Traffic Safety Administration's Fatality Analysis Reporting System (FARS) database, the reporting of fatal and injury crash data provided by the States on a summary basis by functional system was discontinued. Through the 1999 reassessment, the HPMS was positioned to maximize the use of new technologies for collecting and reporting data.

In its current configuration, the HPMS includes limited data on all public roads, more detailed data for a sample of the arterial and collector functional road systems, and area-wide summary information for urbanized, small urban, and rural areas.

Reassessment Purpose

The purpose of the reassessment is to review the HPMS in light of contemporary issues and anticipated future needs. The reassessment will determine what changes, if any, are necessary at this time. The recent reauthorization of the Federal-aid highway program, as contained in the Safe, Accountable, Flexible, Efficient, Transportation Equity Act: A Legacy for Users (SAFETEA-LU) (Pub. L. 109-59, 119 Stat. 1144), provides an appropriate opportunity and framework for the FHWA to undertake a reassessment of the HPMS. Other reasons to reexamine the HPMS are further advancements in technology, requirements of the Government Performance and Results Act of 1993 (GPRA) (Pub. L. 103-62, 107 Stat. 285), changes to State data requirements, increased use of performance measures, and changes in the various uses of HPMS data by government, academia, and the private sector.

Reassessment Plan

The FHWA will undertake an open approach to complete the reassessment. Major emphasis will be directed towards determining the data needs of FHWA's partners, stakeholders, and customers, the various uses of the existing HPMS, and the ability of data providers to support these data needs. The parameters of the reassessment will include critical issues related to the future form and direction of the HPMS. Issues on which the FHWA will solicit comment will include, but not be limited to, the following:

(a) The purpose, scope and objectives of the existing HPMS;

(b) Uses of HPMS data;

(c) Better integration of the HPMS and the existing State and local data processes; and

(d) More effective collection of HPMS data.

The FHWA invites comments on these, or other appropriate issues for consideration in the reassessment.

As a part of the reassessment, the FHWA will conduct a series of workshops, geographically coordinated throughout the country, at which interested parties will have the opportunity to provide input and explore potential alternatives for a future HPMS. The FHWA will post specific workshop dates and locations online at http://www.fhwa.dot.gov/policy/ohpi/hpms/index.htm. Soon after the workshops take place, the FHWA will place the workshop minutes and other supporting documents in the docket noted above for review and comment.

To achieve the maximum opportunity for participation in this reassessment of the HPMS by those customers, stakeholders, partners, and other interests that are impacted by the HPMS, significant effort will be made to facilitate public outreach and involvement. In addition to the workshops described above, mechanisms that are being provided for this effort include, but are not limited to, the following elements:

(a) Participation of the general public and interest groups through a review and comment process on working documents, as well as interim and final products, submitted pursuant to this notice and docket;

(b) Participation of the general public and interest groups through attendance at national/regional meeting(s);

(c) Participation of the transportation community at large through the Transportation Research Board (TRB), which is a division of the National Research Council of the National Academies and is responsible for promoting innovation and progress in transportation through research;

(d) Participation of States through the American Association of State Highway and Transportation Officials (AASHTO), which is a nonprofit nonpartisan association representing highway and transportation departments in the 50 States, the District of Columbia, and Puerto Rico;

(e) Participation of the metropolitan planning organizations (MPOs) through the Association of Metropolitan Planning Organizations (AMPO);

(f) Participation of organizations which represent non-government users of the HPMS data; and,

(g) Participation of technical experts from the following entities: States; FHWA; other Federal agencies such as Research & Innovative Technology Administration (RITA) and National Highway Traffic Safety Administration (NHTSA); AASHTO staff; AASHTO Standing Committee on Planning (SCOP); Metropolitan Planning Organizations; and academia. These technical experts will have the opportunity to attend meetings in order to identify present and future data needs for HPMS users and to provide input on balancing needs with resource requirements. The meetings are designed to gather facts, information and individual advice or recommendations. Comments on the elements of the outreach program for the reassessment are invited.

The FHWA will prepare recommendations for the HPMS, taking into consideration comments made directly through the docket, raised at the various workshops, and collected through other outreach efforts. The FHWA expects to complete its recommendations by February 28, 2007, and publish them in the Federal Register for public review and comment.

The FHWA is initiating this reassessment with the intention of maximizing public input and providing as much flexibility as possible in meeting future HPMS data needs. However, there are a number of principal objectives that will guide the outcome of the reassessment effort. First, the future HPMS will need to support any changes to the FHWA's stewardship and oversight responsibilities that result from SAFETEA-LU. In addition, the future HPMS will need to continue to support various Congressional requirements, including the Conditions and Performance Reports and those imposed by the GPRA. Finally, the outcome of the reassessment process must recognize the national interest in the NHS and the need to continue to assess highway conditions and performance at the national level.

Authority: 23 U.S.C. 502; 23 CFR 1.5.

Issued on: April 3, 2006.
J. Richard Capka,
Acting Federal Highway Administrator.

[FR Doc. E6-5139 Filed 4-7-06; 8:45 am]

BILLING CODE 4910-22-P